DEPARTMENT OF THE INTERIOR

Fish and Wildlife Service

Notice of Availability of the Final Addendum to the Recovery Plan for the Multi-Island Plants

AGENCY: Fish and Wildlife Service, Interior.

ACTION: Notice of document availability.

SUMMARY: The U.S. Fish and Wildlife Service (Service), announces the availability of the final Addendum to the Recovery Plan for the Multi-Island Plants. There are 10 plant taxa included in this plan, all of which are listed as endangered. All 10 taxa are endemic to the Maui Nui group of islands in the Hawaiian Islands.

ADDRESSES: Copies of this recovery plan are available by request from the U.S. Fish and Wildlife Service, Pacific Islands Fish and Wildlife Office, 300 Ala Moana Boulevard, Room 3-122, Box 50088, Honolulu, Hawaii 96850 (phone 808/541-3441). Recovery Plans may also be obtained from: Fish and Wildlife Reference Service, 5430 Grosvenor Lane, Suite 110, Bethesda, Maryland 20814, 301/429-6403 or 1-800-582-3421. The fee for the plan varies depending on the number of pages of the plan. This recovery plan will be made available on the World Wide Web at http://www.r1.fws.gov/ecoservices/endangered/recovery/default.htm or http://endangered.fws.gov/recovery/recplans/index.htm.

FOR FURTHER INFORMATION CONTACT: Christa Russell, Plant Conservation Program Coordinator, at the above U.S. Fish and Wildlife Service Honolulu address.

SUPPLEMENTARY INFORMATION:

Background

Recovery of endangered or threatened animals and plants is a primary goal of our endangered species program. A species is considered recovered when the species' ecosystem is restored and/or threats to the species are removed so that self-sustaining and self-regulating populations of the species can be supported as persistent members of native biotic communities. Recovery plans describe actions considered necessary for the conservation of the species, establish criteria for downlisting or delisting listed species, and estimate the time and cost associated with implementing the measures needed for recovery.

The Endangered Species Act (Act) (16 U.S.C. 1531 et seq.), requires the development of recovery plans for listed species unless such a plan would not promote the conservation of a particular species. Section 4(f) of the Act requires that during recovery plan development, we provide public notice and an opportunity for public review and comment. Information presented during the public comment period has been considered in the preparation of this final addendum, and is summarized in an appendix to the recovery plan. We will forward substantive comments regarding recovery plan implementation to appropriate Federal or other entities so that they can take these comments into account during the course of implementing recovery actions.

This Addendum to the Recovery Plan for the Multi-Island Plants covers 10 plant taxa, all of which are listed as endangered. These 10 Hawaiian plant taxa are endemic to the Maui Nui group of islands in the Hawaiian Islands. This group includes Maui, Molokai, Lanai, and Kahoolawe. Five taxa are endemic to the island of Maui, three taxa are endemic to the island of Lanai, one taxon is endemic to Molokai, and one taxon is endemic to the island of Kahoolawe. The listed plants are: Clermontia samuellii (oha wai), Cyanea copelandii ssp. haleakalaensis (haha), Cyanea glabra (haha), Cyanea hamatiflora ssp. hamatiflora (haha), Dubautia plantaginea ssp. humilis (naenae), Hedyotis schlechtendahliana var. remyi (kopa), Kanaloa kahoolawensis (kohe malama malama o Kanaloa), Labordia tinifolia var. lanaiensis (kamakahala), Labordia triflora (kamakahala), and Melicope munroi (alani).

The 10 taxa included in this addendum grow in a variety of vegetation communities (shrublands and forests), elevational zones (coastal to montane), and moisture regimes (dry to wet). These taxa and their habitats have been variously affected or are currently threatened by one or more of the following: competition for space, light, water, and nutrients by introduced vegetation; habitat degradation by wild, feral or domestic animals (pigs, goats, and deer); predation by animals (deer, pigs, goats, rats, slugs, and insects); substrate loss; and collecting for scientific or horticultural purposes. In addition, due to the small number of existing individuals and their very narrow distributions, these taxa and most of their populations are subject to an increased likelihood of extinction and/or reduced reproductive vigor from naturally occurring events such as hurricanes.

The objective of the addendum to the recovery plan is to provide a framework for the recovery of these 10 taxa so that their protection by the Act is no longer necessary. The interim objective is to stabilize all existing populations of these 10 plants. To be considered stable, each taxon would have to be managed to control threats (e.g., fenced) and be represented in an ex situ (such as a nursery or arboretum) collection. In addition, a minimum total of three populations of each taxon should be documented on the islands where they now occur or occurred historically. Each of these populations would have to be naturally reproducing and increasing in number, with a minimum of 25 mature individuals per population for long-lived perennials (Kanaloa kahoolawensis and Melicope munroi), and a minimum of 50 mature individuals per population for short-lived perennials (Clermontia samuelii, Cyanea copelandii ssp. haleakalaensis, Cyanea glabra, Cyanea hamatiflora ssp. hamatiflora, Dubautia plantaginea, Hedyotis schlechtendahlia var. remyi, Labordia tinifolia var. lanaiensis, and Labordia triflora).

For reclassification to threatened status, a total of five to seven populations of each taxon should be documented on islands where they now occur, or occurred historically. In certain cases, however, a particular taxon could be eligible for reclassification even if all five to seven of the populations are on only one island, provided all of the other recovery criteria have been met, and the populations in question are widely distributed and secure enough that one might reasonably conclude that the taxon is not in danger of extinction throughout all or a significant part of its range.

Each of these populations would have to be naturally reproducing, stable or increasing in number, and secure from threats, with a minimum of 100 mature individuals per population for long-lived perennials and a minimum of 300 mature individuals per population for short-lived perennials. Each population should persist at this level for a minimum of 5 consecutive years before reclassification is considered. A total of 8 to 10 populations of each taxon should be documented on islands where they now occur or occurred historically. As with reclassification to threatened status, there could be certain cases in which a particular taxon may be eligible for removal from the list even if all 8 to 10 of the populations are on only 1 island, provided all of the other recovery criteria have been met, and the populations in question are widely distributed and secure enough that one might reasonably conclude that the taxon is not in danger of extinction throughout all or a significant part of its range. Each of these populations would have to be naturally reproducing, stable or increasing in number, and secure from threats, with a minimum of 100 mature individuals per population for long-lived perennials and a minimum of 300 mature individuals per population for short-lived perennials. Each population should persist at this level for a minimum of 5 consecutive years.

Authority

The authority for this action is section 4(f) of the Endangered Species Act, 16 U.S.C. 1533(f).

Dated: September 19, 2002.
Carolyn A. Bohan,
Acting Regional Director, Region 1, Fish and Wildlife Service.

[FR Doc. 02-31076 Filed 12-9-02; 8:45 am]

BILLING CODE 4310-55-P